ENVIRONMENTAL PROTECTION AGENCY

40 CFR Part 52

[EPA-R05-OAR-2015-0074; FRL-9940-58-Region 5]

Air Plan Approval; Indiana; Temporary Alternate Opacity Limits for American Electric Power, Rockport

AGENCY: Environmental Protection Agency (EPA).

ACTION: Proposed rule.

SUMMARY: The Environmental Protection Agency (EPA) is proposing to approve a revision to the Indiana State Implementation Plan (SIP), authorizing temporary alternate opacity limits (TAOLs) at the American Electric Power, Rockport (AEP Rockport) facility during periods of unit startup and shutdown. This action is consistent with the Clean Air Act (CAA) and EPA policy regarding emissions during periods of startup and shutdown. Indiana has provided an air quality analysis demonstrating that this revision will continue to protect the applicable National Ambient Air Quality Standards (NAAQS) for fine particulate matter (PM2.5) in Spencer County.

DATES: Comments must be received on or before January 27, 2016.

ADDRESSES: Submit your comments, identified by Docket ID No. EPA-R05-OAR-2015-0074, by one of the following methods:

1. www.regulations.gov: Follow the on-line instructions for submitting comments.

2. Email: blakley.pamela@epa.gov.

3. Fax: (312) 692-2490.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2015-0074. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. What should I consider as I prepare my comments for EPA?

II. What is the background for this action?

III. What is EPA's analysis?

IV. What action is EPA taking?

V. Incorporation by Reference

VI. Statutory and Executive Order Reviews

I. What should I consider as I prepare my comments for EPA?

When submitting comments, remember to:

1. Identify the rulemaking by docket number and other identifying information (subject heading, Federal Register date and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What is the background for this action?

On July 16, 2002 (67 FR 46589), EPA approved a revision to Indiana's SIP to include 326 Indiana Administrative Code (IAC) 5-1-3, which provides a mechanism to establish TAOLs. The rule is consistent with the criteria contained in EPA's September 20, 1999, “State Implementation Plans: Policy Regarding Excess Emissions During Malfunctions, Startup, and Shutdown” memorandum. The criteria requires that: The frequency and duration of operation in startup or shutdown mode must be minimized to the extent possible; and the state must analyze the potential worst-case emissions that could occur during startup and shutdown to ensure that the NAAQS are protected. Indiana initially submitted TAOLs for 22 power plants with coal-fired boilers that use electrostatic precipitators (ESPs).¹

¹ These facilities are identified in the attachment to the October 10, 2001, letter from Janet McCabe, IDEM Assistant Commissioner to Stephen Rothblatt, US EPA Region 5 Air Programs Branch Chief. They are: Alcoa Generating, AEP Tanners Creek, Crawfordsville Electric, Hoosier Energy Merom, Hoosier Energy Ratts, IKEC Clifty Creek, IPL Perry “K”, IPL Stout, IPL Pritchard, IPL Petersburg units 1-3, NIPCCO Bailly, NIPSCO Michigan City, NIPSCO Schahfer, PSI Cayuga, PSI Edwardsport, PSI Gallagher, PSI Gibson, PSI Noblesville, PSI Wabash River, Richmond Power & Light, SIGECO Brown unit 1, and SIGECO Culley.

326 IAC 5-1-3(d) provides for a TAOL, upon EPA approval, if the following criteria are met: (1) The source burns any combination of coal, wood, fuel oil, tire-derived fuel, or petroleum coke, (2) the source demonstrates that the TAOL is needed during periods of startup and shutdown and a demonstration is made that the TAOL will not interfere with the NAAQS, (3) Indiana determines that acceptable operating and maintenance procedures are being used, be based on information provided to the commissioner, (4) the commissioner may require the source to install a continuous opacity monitor (COM), (5) the TAOL shall be reviewed by the commissioner after two years of monitoring, (6) the commissioner may deny a request for a TAOL limit if economically and technically feasible means are available to meet a more stringent opacity limit, and (7) the TAOL must be submitted to and approved by EPA.

On January 13, 2015, Indiana requested a SIP revision to add 326 IAC 5-1-8, which provides a mechanism to establish site-specific TAOLs. This provision was used to establish AEP Rockport Units #1 and #2 a TAOL during unit startup and shutdown. These two coal-fired boilers are each controlled by an ESP.

The TAOL for unit startup is only allowed until the exhaust temperature reaches 250 °F at the ESP inlet, up to a maximum of two hours (20 six-minute averaging periods). The TAOL for unit shutdown is only allowed when the exhaust temperature declines below 250 °F at the ESP inlet, up to a maximum of one and one-half (1.5) hours (15 six-minute averaging periods).

III. What is EPA's analysis?

To support the SIP revision request, Indiana evaluated COMs data for Units #1 and #2, and air dispersion modeling. Air dispersion modeling was conducted using the AERMOD regulatory dispersion model with five years of meteorological data. The analysis included conservative suppositions for stack temperature and flow rate. Indiana used worst-case emission rates to predict the highest hourly emissions during a cold startup. The modeling results yielded an eighth high 24-hour PM2.5 value of 22.2 micrograms per cubic meter (µg/m³), well below the 24-hour PM2.5 standard of 35 µg/m³. The air quality in the area will remain protected when Units #1 and #2 are operating with TOALs at the AEP Rockport facility.

EPA has reviewed the COMs data provided in Indiana's submission on AEP Rockport's startups and shutdowns from 2001 until the first quarter of 2004. The AEP Rockport TAOLs appear to be set at appropriate levels, minimizing the TAOL duration. The startup TAOL for AEP Rockport is limited to two hours. The shutdown TAOL is limited to one hour, 30 minutes. Both are less than the three-hour TAOL periods allowed under 326 IAC 5-1-3(e)(2). Indiana has provided the facility's operation and maintenance procedures for its ESPs, which support the expectation that AEP Rockport will operate in a manner that will minimize emissions with well operating emission control. In addition, because the ESP exhaust must be warm enough for it to be safely operated, it is impractical to require operating the ESPs during startup and shutdown periods.

Further, EPA reviewed the AEP Rockport COMs data from 2009 to 2013, which shows that it was in compliance with the opacity standards 99.81 percent of the time. This indicates that the facility is generally in compliance with the opacity rule, even during the startup and shutdown periods covered by the TAOLs.

EPA has determined the AEP Rockport TAOL meets the criteria contained in 326 IAC 5-1-3(d) as follows: (1) The AEP Rockport facility burns coal, (2) AEP Rockport has demonstrated that the TAOL is needed during periods of startup and shutdown, and that the TAOL will not interfere with the maintenance of the national ambient air quality standards, (3) Indiana has determined that acceptable operating and maintenance procedures are being used, based on information AEP Rockport provided, (4) AEP Rockport currently operates a COM for each boiler, (5) Indiana has determined that no economically and technically feasible controls are available to meet a more stringent limit, and (6) the TAOLs were submitted to EPA.²

² The requirement in 326 IAC 5-1-3(d)(5) related to Indiana review of monitoring data does not apply in this case because AEP has previously installed COMs and provided the necessary data.

IV. What action is EPA taking?

EPA is proposing to approve the addition of 326 IAC 5-1-8 to the Indiana SIP. The rule provides AEP Rockport Units #1 and Unit #2 with TAOLs during unit startup and shutdown periods. This action is consistent with the Clean Air Act (CAA) and EPA policy regarding emissions during periods of startup and shutdown. Indiana has provided an air quality analysis demonstrating that this revision will continue to protect the applicable National Ambient Air Quality Standards (NAAQS) for PM2.5 in Spencer County.

V. Incorporation by Reference

In this rule, EPA is proposing to include in a final EPA rule regulatory text that includes incorporation by reference. In accordance with requirements of 1 CFR 51.5, EPA is proposing to incorporate by reference Indiana Regulation 326 IAC 5-1-8 entitled “Site-specific temporary alternative opacity limitations”, effective December 6, 2014. EPA has made, and will continue to make, these documents generally available electronically through www.regulations.gov and/or in hard copy at the appropriate EPA office (see the ADDRESSES section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Particulate matter, Reporting and recordkeeping requirements.

Dated: December 14, 2015.
Susan Hedman,
Regional Administrator, Region 5.

[FR Doc. 2015-32509 Filed 12-24-15; 8:45 am]

BILLING CODE 6560-50-P